DEPARTMENT OF ENERGY

National Energy Technology Laboratory; Technology Development With Independents Financial Assistance Solicitation

AGENCY: National Energy Technology Laboratory, Department of Energy (DOE).

ACTION: Notice of availability of a financial assistance solicitation—restricted eligibility.

SUMMARY: Notice is hereby given of the intent to issue Financial Assistance Solicitation DE-PS26-01NT15263 entitled “Technology Development with Independents.” The Department of Energy announces that it intends to conduct a competitive Program Solicitation and award financial assistance (grants) to small independent oil production operators, operating onshore in the lower contiguous 48 states. Small independent oil-producing operators are defined as (1) companies employing less than 50 full-time employees; and (2) those having no affiliation with a major oil or gas producer (domestic or foreign). The program seeks solutions to oil production problems. Applications will be subjected to review by a DOE technical panel, and awards will be made to a limited number of applicants based on a scientific and engineering evaluation and funding availability.

DATES: The solicitation will be available on the DOE/NETL's Internet address at http://www.netl.doe.gov/business on or about February 15, 2001.

FOR FURTHER INFORMATION CONTACT: Mary Beth Pearse, Contract Specialist, MS 921-107, U.S. Department of Energy, National Energy Technology Laboratory, 626 Cochrans Mill Rd., Pittsburgh PA 15236-0940, E-mail Address: marybeth.pearse@netl.doe.gov, Telephone Number: 412-386-4949.

SUPPLEMENTARY INFORMATION:

Solicitation Release Notification

Prospective applicants who would like to be notified as soon as the solicitation is available should register at http://www.netl.doe.gov/business. Provide your E-mail address and click on the “Oil & Gas” technology choice located under the heading “Fossil Energy.” Once you subscribe, you will receive an announcement by E-mail that the solicitation has been released to the public. Telephone requests, written requests, E-mail requests, or facsimile requests for a copy of the solicitation package will not be accepted and/or honored. Applications must be prepared and submitted in accordance with the instructions and forms contained in the solicitation. The actual solicitation document will allow for requests for explanation and/or interpretation.

Objectives

Through Program Solicitation DE-PS26-01NT15263, the DOE seeks applications from small independent oil producing operators for research and development, advocating solutions for production problems experienced by small independent oil producers.

Eligibility

Eligibility for participation in this Program Solicitation is restricted to small independent oil producing operators.

Areas of Interest

The Department is interested in innovative field technologies which increase production, reduce operating costs, reduce environmental concerns, or a combination thereof.

Awards

DOE anticipates issuing financial assistance (grants) for each project selected. DOE reserves the right to support or not support, with or without discussions, any or all applications received in whole or in part, and to determine how many awards may be made through the solicitation subject to funds available in this fiscal year (FY) and the first quarter of fiscal year 2002. Approximately $530,000 is planned for FY 2001 and $1,000,000 for FY 2002. The estimated funding or cost sharing by the DOE is $75,000 per award, or less. Cost sharing by the applicant is to be not less than 50% of the total proposed amount, which may consist of in-kind contributions.

Issued in Pittsburgh, PA on February 21, 2001.
Dale A. Siciliano,
Deputy Director, Acquisition and Assistance Division.

[FR Doc. 01-4981 Filed 2-28-01; 8:45 am]

BILLING CODE 6450-01-P